SOCIAL SECURITY ADMINISTRATION

Agency Information Collection Activities: Proposed Request and Comment Request

The Social Security Administration (SSA) publishes a list of information collection packages that will require clearance by the Office of Management and Budget (OMB) in compliance with P.L. 104-13 effective October 1, 1995, The Paperwork Reduction Act of 1995. The information collection packages that may be included in this notice are for new information collections, revisions to OMB-approved information collections and extensions (no change) of OMB-approved information collections.

SSA is soliciting comments on the accuracy of the agency's burden estimate; the need for the information; its practical utility; ways to enhance its quality, utility and clarity; and on ways to minimize burden on respondents, including the use of automated collection techniques or other forms of information technology. Written comments and recommendations regarding the information collection(s) should be submitted to the OMB Desk Officer and the SSA Reports Clearance Officer at the following addresses: (OMB) Office of Management and Budget, Attn: Desk Officer for SSA, New Executive Office Building, Room 10235, 725 17th St., NW., Washington, DC 20503; (SSA) Social Security Administration, DCFAM, Attn: Reports Clearance Officer, 1-A-21 Operations Bldg., 6401 Security Blvd., Baltimore, MD 21235.

I. The information collections listed below will be submitted to OMB within 60 days from the date of this notice. Therefore, your comments should be submitted to SSA within 60 days from the date of this publication. You can obtain copies of the collection instruments by calling the SSA Reports Clearance Officer at 410-965-0454, or by writing to the address listed above.

1. State Contribution Return—0960-0041

Form SSA-3961 is used by the Social Security Administration (SSA) to identify and account for all contributions due and paid under section 218 of the Social Security Act. The respondents are State Social Security agencies (one agency in each state, Puerto Rico, and the Virgin Islands) and each of approximately 65 interstate instrumentalities.

Type of Request: Extension of an OMB-Approved Information Collection.

Number of Respondents: 117.

Frequency of Response: 8.5.

Average Burden Per Response: 3 minutes.

Estimated Annual Burden: 50 hours.

2. Report on Individual with Mental Impairment—0960-0058

Form SSA-824 is used by the Social Security Administration to determine the claimant's medical status prior to making a disability determination. The respondents are physicians, medical directors, medical record librarians and other health professionals.

Type of Request: Extension of an OMB-Approved Information Collection.

Number of Respondents: 50,000.

Frequency of Response: 1.

Average Burden Per Response: 36 minutes.

Estimated Annual Burden: 30,000 hours.

3. Missing and Discrepant Wage Reports Letter and Questionnaires-0960-0432

SSA uses the information on Forms SSA-L93, SSA-95 and SSA-97 to secure the employer information missing from its records (or discrepant with Internal Revenue Service (IRS) records) by contacting the involved employers. When secured, SSA is able to properly post the employee's earnings records. Compliance by employers with SSA requests facilitates proper posting of employees' wage records. SSA makes two efforts to obtain wage information from the employer before the case is turned over to the IRS for penalty assessments. The respondents are employers with missing or discrepant wage reports.

Type of Request: Extension of an OMB-Approved Information Collection.

Number of Respondents: 360,000.

Frequency of Response: 1.

Average Burden Per Response: 30 minutes.

Estimated Annual Burden: 180,000 hours.

II. The information collections listed below have been submitted to OMB for clearance. Your comments on the information collections would be most useful if received by OMB and SSA within 30 days from the date of this publication. You can obtain a copy of the OMB clearance package by calling the SSA Reports Clearance Officer on 410-965-0454, or by writing to the address listed above.

1. Continuation of Full Benefit Standard for Persons Institutionalized—0960-0516

SSA is required by law to establish procedures for collecting information on whether an SSI recipient who becomes institutionalized (e.g., hospital, nursing home) may be eligible for continued benefits, based on the full federal benefit rate, if a physician certifies that the anticipated period of medical confinement will last no more than 90 days. The individual (or someone acting on his/her behalf) must demonstrate that he/she needs to pay some or all of the expenses of maintaining the home to which he/she expects to return. The respondents are applicants for SSI benefits.

Type of Request: Extension of an OMB-Approved Information Collection.

Number of Respondents: 60,000.

Frequency of Response: 1.

Average Burden Per Response: 5 minutes.

Estimated Annual Burden: 5,000 hours.

2. Inquiry To File an SSI Child's Application—0960-0557

The information collected on Form SSRO-3-293 (formerly SSA-293) is used by SSA to document the earliest possible filing date and to determine potential eligibility for Supplemental Security Income (SSI) child's benefits. The respondents are individuals, such as hospital social workers, who inquire about SSI eligibility for low birth weight babies.

Type of Request: Extension of an OMB-Approved Information Collection.

Number of Respondents: 2,100.

Frequency of Response: 1.

Average Burden Per Response: 3 minutes.

Estimated Average Burden: 105 hours.

3. Supplemental Security Income Notice of Interim Assistance Reimbursement (Two Forms)—0960-0546

Form SSA-8125 and SSA-L8125-F6 collect interim assistance reimbursement (IAR) information from the States that provide such assistance. Form SSA-8125 is used in situations where IAR can be distributed directly to the recipient after the State has deducted the amount of assistance it provided. Form SSA-L8125-F6 is used in situations where a recipient entitled to underpayments has received IAR from a State and SSA will control the benefit through the installment process.

The respondents are States that provide IAR to SSI claimants.

Type of Request: Extension of an OMB-Approved Information Collection.

| SSA-8125 | SS-L8125-F6
Number of Respondents | 50,000 | 50,000.
Frequency of Response | 1 | 1.
Average Burden Per Response | 10 minutes | 10 minutes.
Estimated Annual Burden | 8,333 hours | 8,333 hours.

4. National Employment Activity and Disability Survey—0960-NEW

Background

The Ticket to Work program (TTW) was established by the 1999 Ticket to Work and Work Incentives Improvement Act. The program will provide eligible Social Security Disability Insurance (SSDI) and Supplemental Security Income (SSI) disability beneficiaries with a Ticket, which can be used to obtain vocational rehabilitation (VR) or employment services through participating providers, called Employment Networks (ENs).

The reason for the TTW program is that some beneficiaries currently lack the resources necessary to return to work at a level above the Substantial Gainful Activity (SGA) level, either because they do not have easy access to such services, or because they lack the incentive to invest resources in return to work activities because of a variety of factors affecting the decision to work. TTW confers upon a beneficiary a means to access those resources in a less restrictive manner than under the traditional program. The manner in which the program is being implemented is expected to increase beneficiary demand for employment-related services and activities. It is also expected to increase the number and diversity of providers in response to the less restrictive participation requirements and increased consumer demand for services.

The National Employment Activity and Disability Survey

The National Employment Activity and Disability Survey will collect data on the work-related activities of SSI and Old Age, Survivors and Disability Insurance (OASDI) beneficiaries as the TTW program, and other initiatives designed to improve beneficiary employment outcomes, are implemented. The TTW Survey is specifically designed to be a significant resource for the formal evaluation of TTW, but SSA anticipates that the survey will provide useful information for a variety of evaluation and policy analysis purposes, especially related to current efforts that attempt to improve return to work. The survey questionnaire focuses on information about beneficiaries and their work-related activities that cannot be obtained from SSA's administrative records. The survey will provide information about: (1) Beneficiaries who assign their Tickets to ENs, and their experience in the program; (2) beneficiaries who do not assign their Tickets, and the reasons why they do not, including involuntary non-participants; (3) the employment outcomes of Ticket users and other beneficiaries; and (4) the use of employment services by Ticket users and other beneficiaries. The respondents will be selected form SSI and OASDI disabled beneficiaries who meet the Ticket to Work program eligibility requirements.

Type of Request: New OMB Information Collection.

Number of Respondents: 6,557.

Frequency of Response: 1.

Average Burden Per Response: 45 minutes.

Estimated annual Burden: 4,918 hours.

5. Record Of Supplemental Security Income Inquiry—0960-0140

Form SSA-3462 is completed by SSA personnel via telephone or personal interview, and it is used to determine potential eligibility for SSI benefits. The respondents are individuals who inquire about SSI eligibility for themselves or someone else.

Type of Request: Extension of an OMB-Approved Information Collection.

Number of Respondents: 2,341,856.

Frequency of Response: 1.

Average Burden Per Response: 5 minutes.

Estimated Annual Burden: 195,155 hours.

6. Public Information Campaign Collections—0960-0544

SSA uses the information from public broadcasting systems to determine media interest in broadcasting SSA's public information materials. The respondents are radio and television stations.

Type of Request: Revision of an OMB-approved Information Collection.

Number of Respondents: 8,000.

Frequency of Response: 3.

Average Burden Per Response: 1 minute.

Estimated Annual Burden: 400.

7. State Mental Institution Policy Review—0960-0110

SSA uses the information collected on Form SSA-9584 to determine whether policies and practices of State mental institutions conform with SSA's regulations in the use of benefits and whether an institution is performing other duties and responsibilities required of a representative payee. The information also provides a basis for conducting an onsite review of the institution and is used in preparing the subsequent report of findings. The respondents are State mental institutions that serve as representative payees.

Type of Request: Revision of an OMB-approved Information Collection.

Number of Respondents: 125.

Frequency of Response: 1.

Average Burden Per Response: 60 minutes.

Estimated Annual Burden: 125 hours.

Dated: July 10, 2002.
Elizabeth A. Davidson,
Reports Clearance Officer, Social Security Administration.

[FR Doc. 02-18140 Filed 7-16-02; 8:45 am]

BILLING CODE 4191-02-P